DEPARTMENT OF THE INTERIOR

Fish and Wildlife Service

[Docket No. FWS-HQ-NWRS-2023-0135; FF09M21200-234-FXMB1231099BPP0; OMB Control Number 1018-0193]

Agency Information Collection Activities; U.S. Fish and Wildlife Service Agreements With Friends Organizations

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before November 24, 2023.

ADDRESSES: Send your comments on the information collection request (ICR) by one of the following methods (please reference 1018-0193 in the subject line of your comments):

• Internet (preferred): https://www.regulations.gov. Follow the instructions for submitting comments on Docket No. FWS-HQ-NWRS-2023-0135.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service (Service) enters into agreements and partnerships with nonprofit Friends groups to facilitate and formalize collaboration between the parties in support of mutual goals and objectives as authorized by:

(1) The Fish and Wildlife Act of 1956 (16 U.S.C. 742a-742j);

(2) The National Wildlife Refuge System Administration Act of 1966 (16 U.S.C. 668dd-ee), as amended;

(3) The Refuge Recreation Act of 1962 (16 U.S.C. 460k et seq.), as amended;

(4) The Anadromous Fish Conservation Act (16 U.S.C. 757a-757g), as amended;

(5) The Fish and Wildlife Coordination Act of 1934 (16 U.S.C. 661-667e), as amended;

(6) The National Wildlife Refuge System Volunteer and Community Partnership Enhancement Act of 1998 (16 U.S.C. 742f), as amended; and

(7) The National Fish Hatchery System Volunteer Act of 2006 (16 U.S.C. 760aa), as amended.

In September 2020, the Office of Inspector General (OIG) at the Department of the Interior (DOI) delivered its final audit report of the Service's Friends Program. The audit outlined six recommendations, including a requirement for Friends group to report related data to the Service on a regular basis. In order to collect this information legally, we must complete the Information Collection Clearance process. The Service addressed and completed all audit recommendations and commitments (other than completion of the Information Collection Clearance process). For example, the Service amended and reissued agency policies (Service Manual chapters 633 FW 1, 633 FW 2, 633 FW 3, and 633 FW 4, available at https://www.fws.gov/program/policy-regulations/library) which guide the program. We also trained Service staff and Friends on the new policies.

The Service uses the information collected to establish efficient and effective partnerships and working relationships with nonprofit Friends organizations. The agreements provide a method for the Service to legally accept donations of funds and other contributions by people and organizations through partnerships with nonprofit (and non-Federal) Friends organizations. The partnership agreements identify roles and responsibilities and identify mutual projects over the term of the agreement. Quarterly reviews provide an opportunity to update contact and financial information. Annual reporting documents contributions to the Service.

The Service utilizes a standardized agreement which describes the substantial involvement of both parties in mutually agreed-upon activities and ensures that both parties have a mutual understanding of their respective roles, responsibilities, rights, expectations, and requirements within the partnership. The agreement, pre-approved by the Department of the Interior (DOI) Office of the Solicitor, provides the suggested language common to most Service Friends partnerships. The content is based on DOI and Service policies, but the Friends and Service sites/programs may thoughtfully add and delete certain language to meet their varying partnership roles and responsibilities wherever Department and Service policies do not dictate otherwise. We also use a supplemental partnership agreement for use of Service property, which provides additional terms and responsibilities beyond the general terms of the partnership agreement and is required only for those Friends groups that use Service land, facilities, or equipment.

The partnership agreement and supplemental agreement are effective for 5 years, with four annual modification options during the 5-year period of performance. Each time the agreement is up for its 5-year renewal, the Refuge or Fish Hatchery Project Leader and the Friends President or Board will meet to review, modify, and sign the agreement as described above. To become effective, the Regional Director (or designee) must review, approve, and sign a new agreement every 5 years.

The Service collects the information listed below in conjunction with the administration of the Friends Program to verify compliance with agency policy and to allow the Service to gauge the impact of the program as a whole. All information collected will be kept in a secure manner by the Service and will not be shared except as an aggregate report. If the Service wishes to share specific details to illustrate the strength of the Friends program, individual groups will be asked for their permission to do so.

In addition to the partnership agreement and supplemental agreement, and subsequent renewals of the agreements, the Service collects the following information in conjunction with the administration of the Friends Program:

• Basic program information documentation, to include documents such as IRS determination letters recognizing an organization as tax exempt, submission of IRS Form 990-series forms, bylaws, articles of incorporation, etc.;

• Internal financial control documentation for the organization;

• Recordkeeping requirements documenting accountability for donations and expenditures;

• Assurance documentation that donations, revenues, and expenditures benefit the applicable refuge or hatchery;

• Annual performance reporting (donations, revenues, and expenditures) and number of memberships (if applicable);

• Additional information that may be included as part of quarterly, annual, and in-depth program reviews; and

• Information related to fundraising agreements for activities described in 212 FW 8.

Over the life of this clearance, the Service plans to develop a digital platform and process to collect information directly from Friends groups. Until that occurs, Friends groups will submit information through form and non-form responses.

Proposed Revisions to This Information Collection

With this submission, we are proposing the following revisions to the existing information collection:

1. (New) National Friends Program: Friends Academy Application (Form 3-TBD)—The Service uses the Friends Academy Application form with the Friends Academy, an advanced training program for board members and staff of Friends organizations who are beyond the formative stages of development. The overarching purpose of the Academy is to cultivate emerging Friends leaders by providing a broader understanding of the Service and enhancing skills to increase the effectiveness of Friends/Service partnerships.

This program is exclusively offered to Friends board members and staff who have been serving for at least 1 year. In addition, people who have at least 2 years of involvement as Friends members or volunteers may be considered. People eligible for the program fall into two application pools—Service staff or other Friends may nominate a Friend, or a Friend may self-nominate. These application forms will be completed and submitted directly to the National Friends Coordinator specified in the “Application Submission Instructions” section.

• Part I (Region and Application Type) of each application simply gathers the servicing USFWS regional office and specifies the type of nomination (Self-nomination or Staff nominating a Friend) that dictates which sections will be filled out.

• Part II (Self-Nomination) and Part III (Nominating a Friend) both gather basic information to identify the nominee (name, address, phone number, email address) and specify the nominee's baseline credentials for gaining entry to the Academy program (Friends organization affiliation, years of affiliation, Service programs supported, volunteer history, board position, committees served). In addition, these sections also solicit professional information that helps the Academy's selection personnel evaluate the nominee's merits as a candidate. Each of these parts gather identical information regarding the nominee.

• Part IV (Required Service Site or Program Manager Endorsement and Signature) requires gathering endorsements and signatures from both the nominee's Service Site Program Manager and from a member of the nominee's Friends Organization.

• Part V (Required Service Site or Program Manager Endorsement and Signature Continued) compiles the signatures of all the individuals involved in preparing the application: self-applicant or nominating official, project leader or manager, and Friends Organization representative.

2. (New) National Friends Program Mentor Application (Form 3-TBD)—The National Friends Mentoring Program is open to both Service staff and members of the public (e.g., retired Service Employees, Friends members). Applicants volunteer to serve in a cadre of trained mentor professionals. These professionals use the National Friends Program Mentor Application form to apply to enter into mentoring relationships with current Friends groups who request this service. The mentor relationship typically lasts for one full year and involves an on-site visit to the Friends group and Service site which the Friends group supports in an official capacity (i.e., has a Friends Partnership Agreement). The Service generally issues a call for mentor applications every 3 to 5 years, at most.

3. (New) Mentoring Visit Form (Form 3-TBD)—Friends groups use the Mentoring Visit Form to request a mentor visit. The form is completed by the Friends group, but the Service staff at the field station which the Friends support must be consulted and must sign the form before it is submitted to Service headquarters.

4. (New) Internal Financial Control Documentation (Forms 990-N or Postcard Filers)—About 80 percent of the Service's Friends groups are very small, with annual gross receipts totaling $50,000 or less. This means that they do not file a 990 or 990-EZ (the Internal Revenue Service (IRS) forms on which organizations must declare all donations and revenues). Rather, these smaller groups, which represent most of our partners, are only required to file the 990-N, or “e-Postcard.” The 990-N or e-Postcard simply asks for confirmation that the organization has annual gross receipts totaling $50,000 or less. Collection of this information, per the Office of Inspector General audit, from Friends groups filing the 990-N or ePostcard is not duplicative of what the IRS requires from 80 percent of our Friends groups, nor is it publicly available information on the IRS website. Therefore, we need to request this information on our Annual Report (for only those small entities filing the 990-N or e-Postcard).

5. (Revised) Internal Financial Control Documentation (Forms 990 or 990-EZ Filers)—We reduced the number of respondents specific to this requirement to reflect only those Friends groups that file Forms 990 or 990-EZ. Tax information for this collection will be retrieved by Service members from information published on the IRS website and not requested from Friends groups.

Title of Collection: U.S. Fish and Wildlife Service Agreements with Friends Organizations.

OMB Control Number: 1018-0193.

Form Numbers: To be determined.

Type of Review: Revision of a currently approved collection.

Respondents/Affected Public: Individuals/households; private sector; and State, local, and Tribal governments.

Respondent's Obligation: Required to obtain or retain a benefit for monitoring and annual reports and voluntary for surveys.

Frequency of Collection: On occasion.

Total Estimated Annual Nonhour Burden Cost: None.

Requirement | Average number of annual respondents | Average number of responses each | Average number of annual responses | Average completion time per response | Estimated annual burden hours *
Partnership Agreement
Reporting | 50 | 50 | 50 | 35 | 1,750
Recordkeeping |  |  |  | 5 | 250
Renewal of Partnership Agreement
Reporting | 150 | 1 | 150 | 5.5 | 825
Recordkeeping |  |  |  | 2.5 | 375
Supplemental Agreement
Reporting | 50 | 1 | 50 | 3 | 150
Recordkeeping |  |  |  | 1 | 50
Renewal of Supplemental Agreement
Reporting | 150 | 1 | 150 | 1.5 | 225
Recordkeeping |  |  |  | 0.5 | 75
Fundraising Agreement
Reporting | 30 | 1 | 30 | 10 | 300
Recordkeeping |  |  |  | 10 | 300
Internal Financial Control Documentation (Forms 990 or 990-EZ Filers) (REVISED)
Reporting | 40 | 1 | 40 | 15 | 600
Recordkeeping |  |  |  | 15 | 600
Internal Financial Control Documentation (Forms 990-N or Postcard Filers) (NEW)
Reporting | 160 | 1 | 160 | 15 | 2,400
Recordkeeping |  |  |  | 15 | 2,400
Assurance Documentation
Reporting | 200 | 1 | 200 | 20 | 4,000
Recordkeeping |  |  |  | 20 | 4,000
Supplemental Documentation Requirements: Quarterly Review
Reporting | 200 | 4 | 800 | 1.5 | 1,200
Recordkeeping |  |  |  | 0.5 | 400
Supplemental Documentation Requirements: Annual Review
Reporting | 10 | 1 | 10 | 2.5 | 25
Recordkeeping |  |  |  | 17.5 | 175
National Friends Program: 2022 Friends Academy Application (Form 3-TBD) (NEW)
Reporting | 30 | 1 | 30 | 2 | 60
National Friends Program: 2022 Mentoring Application (Form 3-TBD) (NEW)
Reporting | 8 | 1 | 8 | 10 | 80
National Friends Program: 2020 Friends Mentor Application (Form 3-TBD) (NEW)
Reporting | 15 | 1 | 15 | 3 | 45
Totals | 1,093 |  | 1,693 |  | 20,285
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-20710 Filed 9-22-23; 8:45 am]

BILLING CODE 4333-15-P